DEPARTMENT OF COMMERCE

Economic Development Administration

Notice of National Advisory Council on Innovation and Entrepreneurship Meeting

AGENCY: Economic Development Administration, Commerce.

ACTION: Notice of an open meeting.

SUMMARY: The National Advisory Council on Innovation and Entrepreneurship (NACIE) will hold a public meeting on Thursday, February 2, 2017, from 1:00-3:00 p.m. Eastern Time (ET) and Friday, February 3, 2017, from 8:45 a.m.-12:30 p.m. ET. During this time, members will further develop their policy proposals and work plan for their two-year term. Topics to be covered include increasing access to capital in underserved markets, inclusive entrepreneurship practices, improving entrepreneurship education in schools and career development programs, and better aligning federal innovation and entrepreneurship programing.

DATES:

Thursday, February 2, 2017

Time: 1:00 p.m.-3:00 p.m. Eastern Time (ET)

Friday, February 3, 2017

Time: 8:45 a.m.-12:30 p.m. ET.

ADDRESSES: Herbert Clark Hoover Building, 1401 Constitution Ave. NW., Washington, DC 20230, Room 1894. Please enter through the library, located on the corner of 15th St. & Pennsylvania Ave. NW., Washington, DC 20230. Please note that pre-clearance is required in order to make a statement during our public comment portion. Please be sure to keep all comments to 5 minutes or less, and submit a brief statement summarizing your comment to Craig Buerstatte (see contact information below) no later than 11:59 p.m. ET on Monday, January 30, 2017.

Teleconference:

February 2-3, 2017

Dial-In: +1888-949-2793

Passcode: 4819803

SUPPLEMENTARY INFORMATION: The NACIE was chartered on November 10, 2009, to advise the Secretary of Commerce on matters related to innovation and entrepreneurship in the United States. NACIE's overarching focus is recommending transformational policies to the Secretary that will help U.S. communities, businesses, and the workforce become more globally competitive.

The NACIE operates as an independent entity within the Office of Innovation and Entrepreneurship (OIE), which is housed within the U.S. Commerce Department's Economic Development Administration. NACIE members are a diverse and dynamic group of successful entrepreneurs, innovators, and investors, as well as leaders from nonprofit organizations and academia.

The final agenda for the meeting will be posted on the NACIE Web site at http://www.eda.gov/oie/nacie/ prior to the meeting. Any member of the public may submit pertinent questions and comments concerning the NACIE's affairs at any time before or after the meeting. Comments may be submitted to the Office of Innovation and Entrepreneurship at the contact information below. Those unable to attend the meetings in person but wishing to listen to the proceedings can do so through a conference call line accessible via +1888-949-2793 with passcode 4819803. Copies of the meeting minutes will be available by request within 90 days of the meeting date.

FOR FURTHER INFORMATION CONTACT: Craig Buerstatte, Office of Innovation and Entrepreneurship, Room 78018, 1401 Constitution Avenue NW., Washington, DC 20230; email: nacie@doc.gov; telephone: +1202-482-8001; fax: +1202-273-4781. Please reference “NACIE February 2017 Meeting” in the subject line of your correspondence.

Dated: January 12, 2017.
Craig Buerstatte,
Acting Director, Office of Innovation and Entrepreneurship.

[FR Doc. 2017-01067 Filed 1-17-17; 8:45 am]

BILLING CODE 3510-WH-P